BROADCASTING BOARD OF GOVERNORS

Government in the Sunshine Act Meeting Notice

DATE AND TIME: Wednesday, July 1, 2015, 9:30 a.m.-11:30 a.m. EDT.

PLACE: Radio Free Europe/Radio Liberty, Vinohradska 159A, 100 00 Prague 10-Strasnice, Czech Republic.

SUBJECT: Notice of meeting of the Broadcasting Board of Governors.

SUMMARY: The Broadcasting Board of Governors (Board) will be meeting at the time and location listed above. The Board will vote on a consent agenda consisting of the minutes of its April 29, 2015 meeting, a resolution honoring 65th anniversary of Radio Free Europe/Radio Liberty (RFE/RL) and 20th anniversary of its move to Prague, Czech Republic, a resolution honoring Radio Marti's 30th anniversary, a resolution honoring David Ensor for his service to the Voice of America, and a resolution updating the Board's policy regarding non-disclosure of deliberative information. The Board will receive a report from the Interim Chief Executive Officer and Director of BBG. The Board will also receive a review of RFE/RL.

This meeting will be available for public observation via streamed webcast, both live and on-demand, on the agency's public Web site at www.bbg.gov. Information regarding this meeting, including any updates or adjustments to its starting time, can also be found on the agency's public Web site.

The public may also attend this meeting in person at the address listed above as seating capacity permits. Members of the public seeking to attend the meeting in person must register at http://bbgboardmeetingjuly2015.eventbrite.com by 12 p.m. (EDT) on June 26. For more information, please contact BBG Public Affairs at (202) 203-4400 or by email at pubaff@bbg.gov.

CONTACT PERSON FOR MORE INFORMATION: Persons interested in obtaining more information should contact Oanh Tran at (202) 203-4545.

Oanh Tran,
Director of Board Operations.

[FR Doc. 2015-15938 Filed 6-24-15; 4:15 pm]

BILLING CODE 8610-01-P